DEPARTMENT OF VETERANS AFFAIRS

Advisory Committee on Prosthetics and Special-Disabilities Programs; Notice of Meeting

The Department of Veterans Affairs (VA) gives notice under the Federal Advisory Committee Act, 5 U.S.C. App. 2, that a meeting of the Federal Advisory Committee on Prosthetics and Special-Disabilities Programs will be held on May 24-25, 2017, in Room 530 at VA Central Office, 810 Vermont Avenue NW., Washington, DC 20420. The meeting will convene at 8:30 a.m. on both days, and will adjourn at 4:30 p.m. on May 24 and at 12 noon on May 25. This meeting is open to the public.

The purpose of the Committee is to advise the Secretary of VA on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On May 24, the Committee will receive briefings on the Spinal Cord Injury and Disorders; VA Eye Care (Optometry and Ophthalmology Services), Workforce Management, Women's Health Services, and Caregiver Program and Community Care. On May 25, the Committee members will receive briefing from the Clinical Orthotists and Prosthetists and Physical Medicine and Rehabilitation, and Polytrauma System of Care.

No time will be allocated for receiving oral presentations from the public; however, members of the public may direct questions or submit written statements for review by the Committee in advance of the meeting to Judy Schafer, Ph.D., Designated Federal Officer, Veterans Health Administration, Patient Care Services, Rehabilitation and Prosthetic Services (10P4R), VA, 810 Vermont Avenue NW., Washington, DC 20420, or by email at Judy.Schafer@va.gov. Because the meeting is being held in a government building, a photo I.D. must be presented at the Guard's Desk as a part of the clearance process. Therefore, you should allow an additional 30 minutes before the meeting begins. Any member of the public wishing to attend the meeting should contact Dr. Schafer at (202) 461-7315.

Dated: May 3, 2017.
LaTonya L. Small,
Federal Advisory Committee Management Officer.

[FR Doc. 2017-09244 Filed 5-5-17; 8:45 am]

BILLING CODE 8320-01-P